GOVERNMENT PRINTING OFFICE

Depository Library Council to the Public Printer; Meeting

The Depository Library Council to the Public Printer (DLC) will meet on Monday, October 21, 2013 through Wednesday, October 23, 2013, in Washington, District of Columbia. The sessions will take place from 8 a.m. to 5:30 p.m., Monday and Tuesday and 8:00 a.m. to 12:30 p.m., on Wednesday. The meeting will be held at the United States Government Printing Office 732 North Capitol Street NW., Washington, District of Columbia. The purpose of this meeting is to discuss the Federal Depository Library Program. All sessions are open to the public. The United States Government Printing Office is in compliance with the requirements of Title III of the Americans with Disabilities Act and meets all Fire Safety Act regulations.

Davita Vance-Cooks,
Public Printer of the United States.

[FR Doc. 2013-22247 Filed 9-12-13; 8:45 am]

BILLING CODE 1520-01-P